ENVIRONMENTAL PROTECTION AGENCY

DEPARTMENT OF DEFENSE

Department of the Army, Corps of Engineers

[EPA-HQ-OW-2013-0820; 9922-59-OW]

Notice of Withdrawal

AGENCIES: Environmental Protection Agency (EPA) and the Department of the Army, Department of Defense.

ACTION: Notice.

SUMMARY: The U.S. Environmental Protection Agency (EPA) and the U.S. Department of the Army (Army) are announcing the withdrawal of an interpretive document addressing the exemption from permitting provided under section 404(f)(1)(A) of the Clean Water Act (CWA).

DATES: The interpretive rule is withdrawn as of January 29, 2015.

FOR FURTHER INFORMATION CONTACT: Ms. Damaris Christensen, Office of Water (4502-T), Environmental Protection Agency, 1200 Pennsylvania Avenue NW., Washington, DC 20460; telephone number 202-564-2442; email address: Wetlands-HQ@epa.gov or Ms. Stacey Jensen, Regulatory Community of Practice (CECW-CO-R), U.S. Army Corps of Engineers, 441 G Street NW., Washington, DC 20314; telephone number 202-761-5856; email address: USACE_CWA_RULE@usace.army.mil.

SUPPLEMENTARY INFORMATION: On March 25, 2014, the Agencies signed an, “Interpretive Rule Regarding Applicability of the Exemption from Permitting under Section 404(f)(1)(A) of the Clean Water Act to Certain Agricultural Conservation Practices,” that addressed applicability of the permitting exemption provided under section 404(f)(1)(A) of the CWA to discharges of dredged or fill material associated with certain agricultural conservation practices. Congress subsequently directed the agencies to withdraw this interpretive rule. See, Consolidated and Further Continuing Appropriation Act, 2015, Division D, section 112, Public Law 113-235. On January 29, 2015, the agencies signed a memorandum withdrawing the interpretive rule and this action is effective immediately. The memorandum of understanding signed on March 25, 2014, by the U.S. EPA, the U.S. Department of the Army and the U.S. Department of Agriculture, concerning the interpretive rule is also withdrawn. The memorandum withdrawing the interpretive rule is available on the EPA Web site at http://water.epa.gov/lawsregs/guidance/wetlands/agriculture.cfm and in the docket for this notice.

Dated: January 29, 2015.
Kenneth J. Kopocis,
Deputy Assistant Administrator for Water, Environmental Protection Agency.
Dated: January 29, 2015.
Jo-Ellen Darcy,
Assistant Secretary of the Army (Civil Works), Department of the Army.

[FR Doc. 2015-02175 Filed 2-5-15; 8:45 am]

BILLING CODE 6560-50-P